DEPARTMENT OF HEALTH AND HUMAN SERVICES

Health Resources and Services Administration

Notice of a Supplemental Award to the Zero to Three National Center for Infant, Toddler and Families, Inc. Cooperative Agreement for the Infant-Toddler Court Program

AGENCY: Health Resources and Services Administration (HRSA), Department of Health and Human Services.

ACTION: Notice of funding award.

SUMMARY: HRSA announces the award of supplemental funding of approximately $7,000,000 to the Zero to Three National Center for Infant, Toddler and Families, Inc. Cooperative Agreement for the Infant-Toddler Court Program (ITCP). The supplemental funding will allow the current recipient, during the period of September 30, 2020-September 29, 2021, to continue to improve the health, safety, well-being and development of infants, toddlers, and families in the child welfare system.

FOR FURTHER INFORMATION CONTACT: Lynlee Tanner Stapleton, Division of Home Visiting and Early Childhood Services, HRSA, 5600 Fishers Lane, Room 18N-146A, Rockville, MD 20857, Phone: 301-443-5764, Email: lstapleton@hrsa.gov.

SUPPLEMENTARY INFORMATION:

Intended Recipient of Award: Zero to Three National Center for Infant, Toddler and Families, Inc.

Amount of Non-Competitive Award: $7,000,000.

Period of Supplemental Funding: 09/30/2020-09/29/2021.

CFDA Number: 93.110.

Authority: Social Security Act, Title V, § 501(a)(2) (42 U.S.C. 701(a)(2)).

Justification: Starting in 2014, the Administration for Children and Families supported the Quality Improvement Center for Research Based Infant-Toddler Court Teams to provide technical assistance and implement projects to fully develop and expand research-based child welfare infant-toddler court teams. The program was transferred to HRSA in Fiscal Year (FY) 2018 and awarded to Zero to Three National Center for Infant, Toddler and Families, Inc. ($3,000,000 per year for 3 years) to provide training, technical assistance, implementation support, and evaluation research for a network of infant-toddler court teams.

The Explanatory Statement accompanying the Further Consolidated Appropriations Act, 2020, indicated that “The agreement includes no less than $10,000,000 for the third year of a cooperative agreement to support research-based Infant-Toddler Court Teams to change child welfare practices to improve the well-being of infants, toddlers, and their families as described in House Report 116-62.” Furthermore, the House Report (H. Rept. 116-62) included the following language from the House Committee on Appropriations: “The Committee includes $10,000,000 for the third year of a cooperative agreement to support research-based Infant Toddler Court Teams to change child welfare practices to improve well-being for infants, toddlers, and their families. The Committee expects this increase of $7,000,000 above the fiscal year 2019 enacted level to: (1) Build upon the work of sites established through the Quality Improvement Center for Research-based Infant Toddler Court Teams, including by providing training and technical assistance in support of such court teams' efforts across the country, and (2) support additional outreach sites to start a court team.” Providing this funding as a supplement to this cooperative agreement recipient, Zero to Three, Inc. is necessary to improve infant-toddler courts.

ITCP provides high-quality services across multiple systems, building on the previously developed Safe Babies Court Team approach, and works to strengthen and align the child welfare, health, and early childhood and community systems to meet the unique and urgent needs of infants, toddlers, and their families who have experienced, or are at risk for, significant maltreatment and/or foster care placement.

The additional funding will continue to advance outcomes associated with the prevention of infant/toddler maltreatment and the need for child placement into foster care; care linkages for involved children and parents with preventative and indicated health care services; expanded reach of infant-toddler court teams; and improved early identification of and response to child and family risk/need, as well as emphasize the continued expansion of cross-sector engagement and alliances at state and local levels. Expected activities include significantly expanding the number of new sites engaged in outreach and start-up activities, supporting states or other regional networks of sites to plan for and develop common infrastructure and resource sharing, increasing the depth of training and technical assistance offered to existing implementation sites, providing increased sub-awards to implementation sites to increase sites' service capacity, and expanding current evaluation work.

Grantee/organization name | Grant No. | State | FY 2019 authorized funding level | FY 2020 proposed funding level
Zero to Three National Center for Infant, Toddler and Families, Inc | U2DMC32394 | DC | $2,986,820 | $ 9,938,555

Thomas J. Engels,
Administrator.

[FR Doc. 2020-12834 Filed 6-12-20; 8:45 am]

BILLING CODE 4165-15-P